TENNESSEE VALLEY AUTHORITY

Meeting of the Regional Resource Stewardship Council

AGENCY: Tennessee Valley Authority (TVA).

ACTION: Notice of meeting.

SUMMARY: The TVA Regional Resource Stewardship Council (RRSC) will hold a meeting on Wednesday and Thursday, September 11-12, 2019, to consider various matters. The RRSC was established to advise TVA on its natural resources and stewardship activities and the priority to be placed among competing objectives and values. Notice of this meeting is given under the Federal Advisory Committee Act (FACA).

DATES: The meeting will be held September 11-12, 2019. Wednesday's meeting will run from 8:30 a.m. to 12:00 p.m. CDT, and Thursday's meeting will run from 8:30 a.m. to 11:30 a.m. CDT.

ADDRESSES: The meeting will be held at the Pickwick Pines Resort Activities Center at 11 Ashley Avenue, Iuka, Mississippi. An individual requiring special accommodation for a disability should let the contact below know at least a week in advance.

FOR FURTHER INFORMATION CONTACT: Cathy Coffey, 865-632-4494, ccoffey@tva.gov.

SUPPLEMENTARY INFORMATION: The meeting agenda includes the following items:

1. Introductions

2. Educate on high quality dam monitoring and safety program applied by TVA system-wide

3. Demonstrate TVA commitment to quality recreation facilities

4. Inform and involve members in regional erosion study

5. Public Comments

6. Council Discussion

The meeting is open to the public. Comments from the public will be accepted Thursday, September 12 at 9:30 a.m., CDT, for 60 minutes. Registration to speak is from 8:00 a.m. to 9:00 a.m., CDT, at the door. TVA will set speaking time limits once registered. Handout materials should be limited to one printed page. Written comments may be sent to the RRSC at any time through links on TVA's website at www.tva.com/rrsc or by mailing to the Regional Resource Stewardship Council, Tennessee Valley Authority, 400 West Summit Hill Drive, WT 9D, Knoxville, Tennessee 37902.

Dated: August 15, 2019.
Joseph J. Hoagland,
Vice President, Innovation and Research, Tennessee Valley Authority.

[FR Doc. 2019-18155 Filed 8-22-19; 8:45 am]

BILLING CODE 8120-08-P